DEPARTMENT OF DEFENSE

Department of the Navy

Notice of Intent To Prepare an Environmental Impact Statement for Navy Air-To-Ground Training at Avon Park Air Force Range and To Announce Public Scoping Meetings

AGENCY: Department of the Navy, DOD.

ACTION: Notice.

SUMMARY: Pursuant to section (102)(2)(c) of the National Environmental Policy Act (NEPA) of 1969, as implemented by the Council on Environmental Quality Regulations (40 CFR parts 1500-1508), the Department of Navy (Navy) announces its intent to prepare an Environmental Impact Statement (EIS) to evaluate the potential environmental consequences of utilizing Avon Park Air Force Range (APAFR) as a location for high explosive air-to-ground ordnance training for East Coast Carrier-based strike/fighter aviation squadrons. Squadrons would use APAFR in combination with other available air-to-ground range assets to meet the operational requirements of its structured aircrew-training program called the Inter-Deployment Training Cycle (IDTC). IDTC air-to-ground training will encompass operations associated with Navy intermediate and advanced level training exercises and combat certification. The EIS will focus on air-to-ground training alternatives within APAFR. These alternatives will encompass varying mixtures of ordnance types among three different ranges within APAFR.

DATES AND ADDRESSES: Three public scoping meetings will be held in Avon Park, Florida; Sebring, Florida; and in Frostproof, Florida to receive oral and written comments on environmental concerns that should be addressed in the EIS. Public scoping open houses will be held at the following dates, times, and locations:

—Tuesday, March 18, 2003, from 7 p.m. to 9 p.m., Frostproof High School Cafeteria, Frostproof, FL.

—Wednesday, March 19, 2003, from 7 p.m. to 9 p.m., Sebring Civic Center, Sebring, FL.

—March 20, 2003, from 7 p.m. to 9 p.m., The City of Avon Park Community Center, Avon Park, FL.

FOR FURTHER INFORMATION CONTACT: Mr. Will Sloger, Southern Div., Naval Facilities Engineering Command, PO Box 190010, North Charleston, SC 29419-9010; telephone (843) 820-5797; facsimile (843) 820-7472.

SUPPLEMENTARY INFORMATION: The Commander, U.S. Atlantic Fleet prepares Carrier Battlegroups (CVBGs) for deployment using a training process known as the “Inter-deployment Training Cycle (IDTC).” The IDTC prepares Navy personnel to function as a part of a coordinated fleet or joint fighting force with the capacity to accomplish multiple missions in a hostile environment. The IDTC is highly structured and features a three-phased building-block approach including basic, intermediate, and advanced phases. Mission activities conducted during the IDTC include integrated strike, close air support, combat search-and-rescue, unit level bombing, helicopter unit level terrain flight, and helicopter unit level air-to-ground training.

The Navy must deploy combat ready forces and considers training with live ordnance to be indispensable to achieving and maintaining combat readiness. The handling of live ordnance and the decision-making in the use of this ordnance provides Fleet sailors and airmen the greatest degree of combat training realism. Exposure to live ordnance is known to rivet the attention of those who manage, handle, and employ it with a combination of fear and respect that non-explosive ordnance cannot impart. Moreover, employment of explosive ordnance onboard an aircraft carrier involves the hazardous end-to-end weapons regime; to include breakout, build-up, and loading; to weapons release, impact, aircraft return and recovery, both day and night. On the ground, redundancy in the availability of disparate explosive targets helps reduce the likelihood of fratricide and collateral damage by ensuring a rigorous, combat-like training regimen prior to overseas deployment. In the end, tactical pilots and flight officers must have full confidence in their support personnel, their equipment and weapons systems, and in their ability to safely and effectively prosecute difficult target sets.

Explosive ordnance-capable ranges are limited to the Navy's Pinecastle Range and the Air Force's Eglin Air Force Base (Air Armament Center) on the East Coast of the United States. At these ranges, limitations exist with regard to range dimensions, run-in lines, the number of explosive ordnance target sets, fire index restrictions, and scheduling lead times, changes, and priorities. Consequently, explosive ordnance range capabilities must be expanded to a location proximate to planned Carrier Battlegroup Training in the Southeastern U.S. (Jacksonville and Gulf of Mexico Operational Areas) to reduce the potential for a single point of failure should the existing ranges be unavailable or unsuitable for a particular exercise. This location must have sufficient range area and suitably sized special use airspace to accommodate safe aircraft operations and ordnance delivery across the full spectrum of IDTC training.

The purpose of the proposed action, therefore, is to provide flexibility across the full spectrum of the IDTC for U.S. Atlantic Fleet aircrews. Navy use of APAFR as a location for explosive air-to-ground training would provide redundancy for explosive ordnance capabilities; increase combat realism, scheduling flexibility, and aimpoint variety; reduce undue operational impacts at any one location; and promote the benefits of multiple DOD, Navy, and community partnerships. Navy will consider possible alternatives using a combination of ordinance target locations within the APAFR.

The EIS will evaluate the environmental effects associated with: Airspace; noise; range safety; earth resources; water resources; air quality; biological resources, including threatened and endangered species; land use; socioeconomic resources; infrastructure; and cultural resources. The analysis will include an evaluation of the direct, indirect, and cumulative impacts. No decision will be made to implement any alternative until the NEPA process is completed.

The Navy is initiating the scoping process to identify community concerns and local issues that will be addressed in the EIS. Federal, state, and local agencies, and interested persons are encouraged to provide oral and/or written comments to the Navy to identify specific issues or topics of environmental concern that should be addressed in the EIS. Written comments must be postmarked by April 15, 2003, and should be mailed to: Avon Park Air-to-Ground Training EIS, c/o Commanding Officer, Southern Div., Naval Facilities Engineering Command, PO Box 190010, North Charleston, SC 29419-9010, Attn: Code ES12/WS (Will Sloger), telephone (843) 820-5797, facsimile (843) 820-7472.

Dated: February 20, 2003.
J.T. Baltimore,
Lieutenant Commander, Judge Advocate General's Corps, U.S. Navy, Alternate Federal Register Liaison Officer.

[FR Doc. 03-4411 Filed 2-24-03; 8:45 am]

BILLING CODE 3810-FF-P